DEPARTMENT OF HEALTH AND HUMAN SERVICES

Notice of Meeting of the Advisory Committee on Blood Safety and Availability

AGENCY: Office of the Secretary, HHS.

ACTION: Notice of meeting.

The Advisory Committee on Blood Safety and Availability will meet on Friday August 24, 2001 from 9 a.m. to 5 p.m. The meeting will take place at the Hyatt Regency Hotel on Capitol Hill, 400 New Jersey Ave., NW., Washington, DC 20001. The meeting will be entirely open to the public.

The purpose of this meeting will be to present the Department's current and future plans to monitor supply and demand for blood and plasma products, and to solicit public comment on these plans.

Public comment will be limited to five minutes per speaker. Those who wish to have printed material distributed to Advisory Committee members should submit thirty (30) copies to the Executive Secretary prior to close of business August 9, 2001. In addition, anyone planning to comment on either item is encouraged to contact the Executive Secretary at her/his earliest convenience.

FOR FURTHER INFORMATION CONTACT: CAPT Lawrence C. McMurtry, Deputy Executive Secretary, Advisory Committee on Blood Safety and Availability, Department of Health and Human Services, Office of Public Health and Science, 200 Independence Ave., SW., Room 736-E, Washington, DC 20201. Phone (202) 690-5558, FAX (202) 690-7560, e-mail lmcmurtry@osophs.dhhs.gov.

Lawrence C. McMurtry,
Deputy Executive Secretary, Advisory Committee on Blood Safety and Availability.

[FR Doc. 01-16752 Filed 7-3-01; 8:45 am]

BILLING CODE 4150-28-M